RAILROAD RETIREMENT BOARD

Proposed Collection; Comment Request

In accordance with the requirement of section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application for Employee Annuity Under the Railroad Retirement Act; OMB 3220-0002.

Section 2(a) of the Railroad Retirement Act (RRA) (45 U.S.C. 231a) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse is awarded a spouse annuity. Benefits become payable after the employee meets certain other requirements, which depend on the type of annuity payable. The requirements for obtaining the annuities are prescribed in 20 CFR parts 216 and 220.

To collect the information needed to help determine an applicant's entitlement to, and the amount of, an employee retirement annuity the RRB uses Forms AA-1, Application for Employee Annuity; AA-1d, Application for Determination of Employee Disability; G-204, Verification of Workers Compensation/Public Disability Benefit Information, and electronic Forms AA-1cert, Application Summary and Certification, AA-1sum, Application Summary, and AA-1 (internet), Application for Employee Annuity.

The AA-1 application process obtains information from an applicant about their marital history, work history, military service, benefits from other governmental agencies, railroad pensions and Medicare entitlement for either an age and service or disability annuity. An RRB representative interviews the applicant either at a field office, an itinerant point, or by telephone. During the interview, the RRB representative enters the information obtained into an on-line information system. Upon completion of the interview, the on-line information system generates Form AA-1cert, Application Summary and Certification, or Form AA-1sum, Application Summary, a summary of the information that was provided for the applicant to review and approve. Form AA-1cert documents approval using the traditional pen and ink “wet” signature, and Form AA-1sum documents approval using the alternative signature method called Attestation. When the RRB representative is unable to contact the applicant in person or by telephone, for example, the applicant lives in another country, a manual version of Form AA-1 is used.

Form AA-1d, Application for Determination of Employee's Disability, is completed by an employee who is filing for a disability annuity under the RRA, or a disability freeze under the Social Security Act, for early Medicare based on a disability. Form G-204, Verification of Worker's Compensation/Public Disability Benefit Information, is used to obtain and verify information concerning a worker's compensation or a public disability benefit that is or will be paid by a public agency to a disabled railroad employee. Form AA-1 (internet) can be completed by the applicant and submitted through the RRB's website at www.rrb.gov. One response is requested of each respondent. Completion of the forms is required to obtain/retain a benefit. The RRB proposes no changes to Form AA-1, Form AA-1 (internet), Form AA-1cert, AA-1sum and Form G-204.

The RRB proposes the following changes to Form AA-1d:

• Section 1, General Instructions, the date is being updated to 06/06/24,

• Section 6, Information About Your Daily Activities, add “Sleeping” to the activity list for question 34,

• Section 6, Information about Your Daily Activities, add a question 35b, “Describe and explain if your condition affects your memory, concentration, or ability to understand and follow instructions. (Include when this change began.)”,

• Section 7, Information About Your Work and Earnings, question 43, update to 12-2024 in example,

• Section 11, Certification, question 63, remove the word “criminal” from the sentence to read “I know that if I am receiving a disability annuity and fail to report work and earnings promptly, I am committing a crime punishable by Federal law that may result in prosecution and/or penalty deductions in my annuity payments”,

• Corrected the abbreviation word “Cont.” to “Continued” throughout form, and

• Correct grammar, spacing, heading and other issues within the form for consistency.

Estimate of Annual Respondent Burden
Form No. | Annual responses | Time (minutes) | Burden (hours)
AA-1 (without assistance) | 30 | 62 | 31
AA-1cert (with assistance) | 5,425 | 30 | 2,712
AA-1sum (with assistance) | 2,750 | 29 | 1,329
AA-1 (internet) (without assistance) | 0 | 45 | 0
AA-1d (with assistance) | 2,600 | 60 | 2,600
AA-1d (without assistance) | 5 | 90 | 7
G-204 | 20 | 15 | 5
Total | 10,830 |  | 6,902

2. Title and purpose of information collection: Application for Survivor Insurance Annuities; OMB 3220-0030.

Under section 2(d) of the Railroad Retirement Act (RRA) (45 U.S.C. 231a), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR parts 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification and AA-17sum, Application Summary.

The on-line automated survivor annuity application (Forms AA-17, AA-18, AA-19, and AA-20) process obtains information about an applicant's marital history, work history, benefits from other government agencies, and Medicare entitlement for a survivor annuity. An RRB representative interviews the applicant either at a field office (preferred), an itinerant point, or by telephone. During the interview, the RRB representative enters the information obtained into an on-line information system. Upon completion of the interview, the system generates, for the applicant's review, either Form AA-17cert or AA-17sum, which provides a summary of the information that the applicant provided or verified. Form AA-17cert, Application Summary and Certification, requires a tradition pen and ink “wet” signature. Form AA-17sum, Application Summary, documents the alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of the appropriate form is used. One response is requested of each respondent. Completion of the forms is required to obtain a benefit.

The RRB proposes no changes to forms AA-17cert.

The RRB proposes the following changes to Form AA-17b:

• Section 1, General Instructions, the date is being updated to 12/13/24,

• Section 6, Information About Your Daily Activities, remove the word “even” from question 33 in sentence “NOT AT ALL—I cannot do the activity even with or without assistance”,

• Section 6, Information About Your Daily Activities, add “Sleeping” to the activity list for question 33,

• Section 6, Information About Your Daily Activities, rename question 34 to be question 34a,

• Section 6, Information about Your Daily Activities, add a question 34b, “Describe and explain if your condition affects your memory, concentration, or ability to understand and follow instructions. (Include when this change began.)”,

• Section 7, Information About Your Work and Earnings, question 46, update to 12-2024 in example,

• Section 10, Certification, question 65, remove the word “criminal” from the sentence to read “I know that if I am receiving a disability annuity and fail to report work and earnings promptly, I am committing a crime punishable by Federal law that may result in prosecution and/or penalty deductions in my annuity payments”, and

• Correct grammar, spacing, and heading issues within the form for consistency

The RRB proposes the following changes to Form AA-19a:

• Section 1, General Instructions, the date is being updated to 12/13/24,

• Section 5, Information About Your Daily Activities, remove the word “even” from question 28 in sentence “NOT AT ALL—I cannot do the activity even with or without assistance”,

• Section 5, Information About The Child's Daily Activities, add “Sleeping” to the activity list for question 28.

• Section 5, Information About The Child's Daily Activities, rename question 29 to be question 29a.

• Section 5, Information about Your Daily Activities, add a question 29b, “Describe and explain if your condition affects your memory, concentration, or ability to understand and follow instructions. (Include when this change began.)”

• Section 7, Information About Your Work and Earnings, question 74, update to 12-2024 in example.

• Section 10, Certification, question 99, remove the word “criminal” from the sentence to read “I know that if I am receiving a disability annuity and fail to report work and earnings promptly, I am committing a crime punishable by Federal law that may result in prosecution and/or penalty deductions in my annuity payments”, and

• Correct grammar, spacing, and heading issues within the form for consistency.

The RRB proposes minor changes to the Form AA-17sum:

• Update the outdated office hours with a link to the RRB website and the toll-free number, and

• Remove the date that the applicant would be notified of a decision in the application process.

Estimate of Annual Respondent Burden
Form No. | Annual responses | Time (minutes)1/ | Burden (hours)
AA-17 Application Process:
AA-17cert | 900 | 20 | 300
AA-17sum | 2,100 | 19 | 665
AA-17b:
(With assistance) | 175 | 50 | 146
(Without assistance) | 20 | 60 | 18
AA-19a:
(With assistance) | 200 | 50 | 167
(Without assistance) | 15 | 70 | 18
Total | 3,410 |  | 1,314

3. Title and purpose of information collection: Continuing Disability Report; OMB 3220-0187.

Under Section 2 of the Railroad Retirement Act (45 U.S.C. 231a), an annuity is not payable or is reduced for any month in which the annuitant works for a railroad or earns more than prescribed dollar amounts from either non-railroad employment or self-employment. Certain types of work may indicate an annuitant's recovery from disability. The provisions relating to the reduction or non-payment of an annuity by reason of work, and an annuitant's recovery from disability for work, are prescribed in 20 CFR 220.17-220.20. The RRB conducts continuing disability reviews (CDR) to determine whether an annuitant continues to meet the disability requirements of the law. Provisions relating to when and how often the RRB conducts CDR's are prescribed in 20 CFR 220.186.

Form G-254, Continuing Disability Report, is used by the RRB to develop information for a CDR determination, including a determination prompted by a report of work, return to railroad service, allegation of medical improvement, or a routine disability review call-up.

The RRB proposes the following changes to Form G-254:

• Section 5, Information about Your Condition before Full Retirement Age, remove the word “even” from question 31a in sentence “NOT AT ALL—I cannot do the activity even with or without assistance”,

• Section 5, Information about Your Condition before Full Retirement Age, add “Sleeping” to the activity list for question 31a,

• Section 5, Information about Your Condition before Full Retirement Age, add a question 31e, “Describe and explain if your condition affects your memory, concentration, or ability to understand and follow instructions. (Include when this change began.)”, and

• Correct grammar, spacing, and heading issues within the form for consistency.

Form G-254a, Continuing Disability Update Report, is used to help identify a disability annuitant whose work activity and/or recent medical history warrants completion of Form G-254 for a more extensive review. The RRB proposes no changes to Form G-254a.

Estimate of Annual Respondent Burden
Form No. | Annual responses | Time (minutes)1/ | Burden (hours)
G-254:
Annuitant | 900 | 40 | 600
Employer verification | 100 | 5 | 8
Doctor, hospital, or clinic verification | 100 | 5 | 8
Vocational, Rehabilitation Counselor verification | 100 | 5 | 8
Other governmental agency verification | 100 | 5 | 8
School verification | 100 | 5 | 8
G-254a | 1,350 | 5 | 113
Total | 2,750 |  | 753

Additional Information or Comments: To request more information or to obtain a copy of the information collection justification, forms, and/or supporting material, contact Kennisha Money at (312) 469-2591 or Kennisha.Money@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2024-26068 Filed 11-7-24; 8:45 am]

BILLING CODE 7905-01-P